INTERNATIONAL TRADE COMMISSION

[USITC SE-10-002]

Government in the Sunshine Act Meeting Notice

AGENCY HOLDING THE MEETING: United States International Trade Commission.

TIME AND DATE: February 26, 2010 at 9:30 a.m.

PLACE: Room 110, 500 E Street, SW., Washington, DC 20436, Telephone: (202) 205-2000.

STATUS: Open to the public.

MATTERS TO BE CONSIDERED: 1. Agenda for future meetings: none.

2. Minutes.

3. Ratification List.

4. Inv. No. AA1921-167 (Third Review) (Pressure Sensitive Plastic Tape from Italy)—briefing and vote. (The Commission is currently scheduled to transmit its determination and Commissioners' opinions to the Secretary of Commerce on or before March 11, 2010.)

5. Outstanding action jackets: none.

In accordance with Commission policy, subject matter listed above, not disposed of at the scheduled meeting, may be carried over to the agenda of the following meeting.

By order of the Commission.
Issued: February 19, 2010.
William R. Bishop,
Hearings and Meetings Coordinator.

[FR Doc. 2010-3856 Filed 2-22-10; 4:15 pm]

BILLING CODE 7020-02-P